DEPARTMENT OF DEFENSE

Office of the Secretary

[Docket ID DOD-2010-OS-0119]

Privacy Act of 1974; System of Records

AGENCY: Defense Logistics Agency, DoD.

ACTION: Notice to alter a system of records.

SUMMARY: The Defense Logistics Agency proposes to alter a system of records notice in its existing inventory of records systems subject to the Privacy Act of 1974, (5 U.S.C. 552a), as amended.

DATES: This proposed action will be effective without further notice on September 27, 2010, unless comments are received which result in a contrary determination.

ADDRESSES: You may submit comments, identified by docket number and title, by any of the following methods:

* Federal Rulemaking Portal: http://www.regulations.gov. Follow the instructions for submitting comments.

* Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the Privacy Act Officer, Headquarters, Defense Logistics Agency, Attn: DGA, 8725 John J. Kingman Road, Stop 16443, Fort Belvoir, VA 22060-6221.

The proposed system report, as required by 5 U.S.C. 552a(r), of the Privacy Act of 1974, as amended, was submitted on August 16, 2010, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996; 61 FR 6427).

Dated: August 23, 2010.
Mitchell S. Bryman,
Alternate OSD Federal Register Liaison Officer, Department of Defense.

S800.10 DLSC

System Name:

Federal Property End Use Files (January 20, 2000; 73 FR 3222).

Changes:

System Identifier:

Delete entry and replace with “S640.45.”

System Name:

Delete entry and replace with “End Use Certificates.”

System Location:

Delete entry and replace with “Records are maintained by the Commander, Defense Reutilization and Marketing Service, 74 Washington Avenue North, Battle Creek, MI 49017-3092.”

* * * * *

Categories of Records in the System:

Delete entry and replace with “Applicant's name, address, date and place of birth, Social Security Number (SSN), citizenship, alien registration data, telephone number, company affiliation, identity of firm officials, nature of business, firm's identification/tax number, sales number, and Bidder Identification Number and information on the intended end use of the property. File may also include a copy of the individual's current driver's license and/or state issued ID, passport, and naturalization/immigration documents.”

Authority for Maintenance of the System:

Delete entry and replace with “10 U.S.C. 133, Under Secretary of Defense for Acquisition, Technology, and Logistics; 22 U.S.C. 2751-2799, Arms Export Control; 50 App. U.S.C. 2401 et seq., Export Administration; E.O. 12738 and E.O. 12981, Export Controls; 22 CFR part 122, Registration of Manufacturers and Exporters; 15 CFR part 762, Export Administration Regulations Recordkeeping; 41 CFR part 101, Federal Property Management Regulations; 41 CFR part 102, Federal Management Regulations; DoD Directive 2040.3, End Use Certificates (EUCS); DoD Instruction 2030.08, Implementation of Trade Security Controls (TSC) for Transfers of DoD U.S. Munitions List (USML) and Commerce Control List (CCL) Personal Property to Parties Outside DoD Control; DoD Instruction 2040.02, International Transfers of Technology, Articles, and Services; and DoD Instruction 4161.2, Management, Control and Disposal of Government Property in the Possession of Contractors; DoD 4160.21-M, Defense Materiel Disposition Manual; DoD 4160.21-M-1, Defense Demilitarization Manual and E.O. 9397 (SSN), as amended.”

* * * * *

Retrievability:

Delete entry and replace with “Records are retrieved by subject individual's name, Social Security Number (SSN), company name, sales number, and Bidder Identification Number.”

Safeguards:

Delete entry and replace with “Records are maintained in areas accessible only to DLA personnel who must access the records to perform their official duties. Physical entry is restricted by the use of guards, locks, and administrative procedures. System is password controlled with system-generated, forced password-change protocols and also equipped with “Smart Card” technology that requires the insertion of an embedded identification card and entry of a PIN. In addition, computer screens lock after a preset period for inactivity with re-entry controlled by passwords. Employees have been briefed on their responsibilities regarding privacy information and are required to take annual Privacy Act Information training.”

Retention and Disposal:

Delete entry and replace with “Records are destroyed 7 years after bid award date. Sales records involving violation of law or regulation are destroyed 15 years after case adjudication is completed.”

System Manager(s) and Address:

Delete entry and replace with “Staff Director, DLA Accountability Office (DA), Investigation Division, Headquarters, Defense Logistics Agency, 8725 John J. Kingman Road, Suite 2358, Fort Belvoir, VA 22060-6221.”

Notification Procedure:

Delete entry and replace with “Individuals seeking to determine whether information about themselves is contained in this system should address written inquiries to the DLA HQ FOIA/Privacy Act Office, Defense Logistics Agency Headquarters, ATTN: DGA, 8725 John J. Kingman Road, Suite 1644, Fort Belvoir, VA 22060-6221.

Inquiry should contain the subject individual's full name, Social Security Number (SSN), their company's name, sales number, and Bidder Identification Number.”

Record Access Procedures:

Delete entry and replace with “Individuals seeking access to information about themselves contained in this system should address written inquiries to the DLA HQ FOIA/Privacy Act Office, Defense Logistics Agency Headquarters, ATTN: DGA, 8725 John J. Kingman Road, Suite 1644, Fort Belvoir, VA 22060-6221.

Inquiry should contain the subject individual's full name, Social Security Number (SSN), their company's name, sales number, and Bidder Identification Number.”

Contesting Record Procedures:

Delete entry and replace with “The DLA rules for accessing records, for contesting contents, and appealing initial agency determinations are contained in 32 CFR part 323, or may be obtained from the DLA HQ FOIA/Privacy Act Office, Defense Logistics Agency Headquarters, Attn: DGA, 8725 John J. Kingman Road, Suite 1644, Fort Belvoir, VA 22060-6221.”

* * * * *

S640.45

System Name:

End Use Certificates.

System Location:

Records are maintained by the Commander, Defense Reutilization and Marketing Service, 74 Washington Avenue North, Battle Creek, MI 49017-3092.

Categories of Individuals Covered by the System:

Individuals, businesses, and organizations who bid on or participate in the DoD surplus personal property sales program or the excess contractor inventory sales program.

Categories of Records in the System:

Applicant's name, address, date and place of birth, Social Security Number (SSN), citizenship, alien registration data, telephone number, company affiliation, identity of firm officials, nature of business, firm's identification/tax number, sales number, and Bidder Identification Number and information on the intended end use of the property. File may also include a copy of the individual's current driver's license and/or state issued ID, passport, and naturalization/immigration documents.

Authority for Maintenance of the System:

10 U.S.C. 133, Under Secretary of Defense for Acquisition, Technology, and Logistics; 22 U.S.C. 2751-2799, Arms Export Control; 50 App. U.S.C. 2401 et seq., Export Administration; E.O. 12738 and E.O. 12981, Export Controls; 22 CFR part 122, Registration of Manufacturers and Exporters; 15 CFR part 762, Export Administration Regulations Recordkeeping; 41 CFR part 101, Federal Property Management Regulations; 41 CFR part 102, Federal Management Regulations; DoD Directive 2040.3, End Use Certificates (EUCS); DoD Instruction 2030.08, Implementation of Trade Security Controls (TSC) for Transfers of DoD U.S. Munitions List (USML) and Commerce Control List (CCL) Personal Property to Parties Outside DoD Control; DoD Instruction 2040.02, International Transfers of Technology, Articles, and Services; and DoD Instruction 4161.2, Management, Control and Disposal of Government Property in the Possession of Contractors; DoD 4160.21-M, Defense Materiel Disposition Manual; DoD 4160.21-M-1, Defense Demilitarization Manual and E.O. 9397 (SSN), as amended.

Purpose(s):

Records are used in the management of the property disposal programs to determine bidder eligibility to participate in the programs and to ensure that property recipients comply with the terms of the sale regarding end use of the property.

Routine Uses of Records Maintained in the System, Including Categories of Users and the Purposes of Such Uses:

In addition to the disclosures generally permitted under 5 U.S.C. 552a(b) of the Privacy Act of 1974, these records may specifically be disclosed outside the DoD as a routine use pursuant to 5 U.S.C. 552a(b)(3) as follows:

To the Department of the Treasury to ensure that recipients comply with U.S. Customs rules and regulations regarding movement of the property.

To the Department of Transportation to ensure compliance with rules regarding Federal Aviation Administration airworthiness certificates for surplus military aircraft.

To the General Services Administration to determine the presence of debarment proceedings against a bidder.

To the Department of State to ensure compliance with the International Traffic in Arms regulations.

To the Department of Commerce to ensure compliance with the Export Administration regulations.

To the Department of Justice for asset identification, location and recovery; and for immigration and naturalization data verification.

The DoD “Blanket Routine Uses” apply to this system of records.

Policies and Practices for Storing, Retrieving, Accessing, Retaining, and Disposing of Records in the System:

Storage:

Records may be stored on paper and/or on electronic storage media.

Retrievability:

Records are retrieved by subject individual's name, Social Security Number (SSN), company name, sales number, and Bidder Identification Number.

Safeguards:

Records are maintained in areas accessible only to DLA personnel who must access the records to perform their official duties. Physical entry is restricted by the use of guards, locks, and administrative procedures. System is password controlled with system-generated, forced password-change protocols and also equipped with “Smart Card” technology that requires the insertion of an embedded identification card and entry of a PIN. In addition, computer screens lock after a preset period for inactivity with re-entry controlled by passwords. Employees have been briefed on their responsibilities regarding privacy information and are required to take annual Privacy Act Information training.

Retention and Disposal:

Records are destroyed 7 years after bid award date. Sales records involving violation of law or regulation are destroyed 15 years after case adjudication is completed.

System Manager(s) and Address:

Staff Director, DLA Accountability Office (DA), Investigation Division, Headquarters, Defense Logistics Agency, 8725 John J. Kingman Road, Suite 2358, Fort Belvoir, VA 22060-6221.

Notification Procedure:

Individuals seeking to determine whether information about themselves is contained in this system should address written inquiries to the DLA HQ FOIA/Privacy Act Office, Defense Logistics Agency Headquarters, Attn: DGA, 8725 John J. Kingman Road, Suite 1644, Fort Belvoir, VA 22060-6221.

Inquiry should contain the subject individual's full name, Social Security Number (SSN), their company's name, sales number, and Bidder Identification Number.

Record Access Procedures:

Individuals seeking access to information about themselves contained in this system should address written inquiries to the DLA HQ FOIA/Privacy Act Office, Defense Logistics Agency Headquarters, Attn: DGA, 8725 John J. Kingman Road, Suite 1644, Fort Belvoir, VA 22060-6221.

Inquiry should contain the subject individual's full name, Social Security Number (SSN), their company's name, sales number, and Bidder Identification Number.

Contesting Record Procedures:

The DLA rules for accessing records, for contesting contents, and appealing initial agency determinations are contained in 32 CFR part 323, or may be obtained from the DLA HQ FOIA/Privacy Act Office, Defense Logistics Agency Headquarters, Attn: DGA, 8725 John J. Kingman Road, Suite 1644, Fort Belvoir, VA 22060-6221.

Record Source Categories:

Information is provided by the record subject and by Federal agencies investigating or monitoring arms trafficking, property movement, export control, or other laws and regulations.

Exemptions Claimed for the System:

None.

[FR Doc. 2010-21273 Filed 8-25-10; 8:45 am]

BILLING CODE 5001-06-P